DEPARTMENT OF HEALTH AND HUMAN SERVICES

National Institutes of Health

Office of the Director, National Institutes of Health; Notice of Meeting

Pursuant to section 10(a) of the Federal Advisory Committee Act, as amended (5 U.S.C. App.), notice is hereby given of a meeting of the Office of AIDS Research Advisory Council.

The meeting will be open to the public, with attendance limited to space available. Individuals who plan to attend and need special assistance, such as sign language interpretation or other reasonable accommodations, should notify the Contact Person listed below in advance of the meeting.

Name of Committee: Office of AIDS Research Advisory Council.

Date: July 18, 2017.

Time: 2:00 p.m. to 4:00 p.m.

Agenda: OAR Director's Report; Update on NIH Activities; OAR Task Force on Cost Sharing; OAR Task Force on Implementation and Behavioral and Social Science Research. Participants are encouraged to join the WebEx meeting, found at www.oar.nih.gov, at least 30 minutes prior to the scheduled start time. For logistical information to join the WebEx, please contact Ms. Piper Brown at brownp1@mail.nih.gov.

Place: Office of AIDS Research Conference Room (2F100) 5601 Fisher Lane, Rockville, MD 20852 (Virtual Meeting).

Contact Person: Elizabeth S. Church, Ph.D., Executive Secretary Office of AIDS Research DPCPSI, Office of the Director, 5601 Fishers Lane, Room 2E-60, Rockville, MD 20852-9830, 240-627-3201, elizabeth.church@nih.gov.

Any interested person may file written comments with the committee by forwarding the statement to the Contact Person listed on this notice. The statement should include the name, address, telephone number and when applicable, the business or professional affiliation of the interested person.

Information is also available on the Institute's/Center's home page: www.oar.nih.gov, where an agenda and any additional information for the meeting will be posted when available.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: June 15, 2017.
Natasha M. Copeland,
Program Analyst, Office of Federal Advisory Committee Policy.

[FR Doc. 2017-12876 Filed 6-20-17; 8:45 am]

BILLING CODE 4140-01-P